SECURITIES AND EXCHANGE COMMISSION

[Release No. 34-62740; File No. SR-NASDAQ-2010-074]

Self-Regulatory Organizations; The NASDAQ Stock Market LLC; Notice of Designation of Longer Period for Commission Action on Proposed Rule Change, as Modified by Amendment No. 1, To Adopt Rule 4753(c) as a Six Month Pilot in 100 NASDAQ-Listed Securities

August 18, 2010.

On June 18, 2010, The NASDAQ Stock Market LLC (“Nasdaq”) filed with the Securities and Exchange Commission (“Commission”), pursuant to Section 19(b)(1) ¹ of the Securities Exchange Act of 1934 (“Act”),² and Rule 19b-4 thereunder,³ a proposed rule change to adopt a volatility-based pause in trading in individual Nasdaq-listed securities traded on Nasdaq.⁴

¹ 15 U.S.C. 78s(b)(1).

² 15 U.S.C. 78a.

³ 17 CFR 240.19b-4.

⁴ See Securities Exchange Act Release Nos. 62468 (July 7, 2010), 75 FR 41258 (July 15, 2010). On June 25, 2010, Nasdaq filed Amendment No. 1 to the proposed rule change.

Section 19(b)(2) of the Act ⁵ provides that, within thirty-five days of the publication of notice of the filing of a proposed rule change, or within such longer period as the Commission may designate up to ninety days of such date if it finds such longer period to be appropriate and publishes its reasons for so finding, the Commission shall either approve the proposed rule change or institute proceedings to determine whether the proposed rule change should be disapproved. The 35th day for this filing is August 19, 2010.

⁵ 15 U.S.C. 78s(b)(2).

The Commission finds it appropriate to designate a longer period within which to take action on the proposed rule change so that it has sufficient time to consider this proposed rule change, which relates to the adoption of a volatility-based trading pause in select Nasdaq-listed securities on a pilot basis, and the comment letters that have been submitted in connection with this filing.

Accordingly, the Commission, pursuant to Section 19(b)(2) of the Act,⁶ designates October 13, 2010, as the date by which the Commission should either approve or institute proceedings to determine whether to disapprove the proposed rule change.

⁶ 15 U.S.C. 78s(b)(2).

By the Commission.
Florence E. Harmon,
Deputy Secretary.

[FR Doc. 2010-21001 Filed 8-23-10; 8:45 am]

BILLING CODE 8010-01-P